Proclamation 9701 of February 28, 2018

Irish-American Heritage Month, 2018

By the President of the United States of America

A Proclamation

During the month of St. Patrick's Day, we celebrate Irish-American Heritage Month and the tremendous role Irish immigrants and their descendants have played in the development of our great Nation. Irish-American Heritage Month is a great opportunity to celebrate the nearly 33 million Americans with Irish ancestry and their tremendous contributions to the betterment of our country. This month, and every month, we appreciate their efforts in helping usher in a new era of American prosperity.

Irish Americans have distinguished themselves in every sector of American life. Many have been among the key architects of our country's greatness. Nine of the men who signed our Declaration of Independence were of Irish origin. Presidents Andrew Jackson, John F. Kennedy, Ronald Reagan, and many others have traced their roots to the Emerald Isle. Businessman Henry Ford, founder of one of America's most iconic companies, was the son of an Irish immigrant.

For centuries, the tenacious Irish spirit, paired with American self-reliance, has helped Irish immigrants and their descendants realize incredible dreams. With religious devotion, strength rooted in the love of family, and confidence in the promise of America, Irish Americans have engaged in the American experience in robust and meaningful ways. Their neighborhoods, schools, churches, and workplaces have affirmed the importance of faith, industry, and learning. It is, therefore, no wonder that American art, business, and public life are marked by Irish names and symbols.

This month, Americans across the country will don the traditional green garb as we celebrate the patron saint of Ireland in an annual tribute to our shared and cherished heritage with that great country. As we spend this month honoring Irish Americans, we also pledge to further strengthen our relationship with the Emerald Isle itself, as we look forward to a bright future of greater friendship, cooperation, and commerce for centuries to come.

NOW, THEREFORE, I, DONALD J. TRUMP, President of the United States of America, by virtue of the authority vested in me by the Constitution and the laws of the United States, do hereby proclaim March 2018 as Irish-American Heritage Month. I call upon all Americans to celebrate the achievements and contributions of Irish Americans to our Nation with appropriate ceremonies, activities, and programs.

IN WITNESS WHEREOF, I have hereunto set my hand this twenty-eighth day of February, in the year of our Lord two thousand eighteen, and of the Independence of the United States of America the two hundred and forty-second.

[FR Doc. 2018-04621

Filed 3-2-18; 11:15 am]

Billing code 3295-F8-P